DEPARTMENT OF STATE

[Public Notice: 7329]

Announcement of a Meeting of the International Telecommunication Advisory Committee

SUMMARY: This notice announces a meeting of the International Telecommunication Advisory Committee (ITAC) to prepare for the International Telecommunication Union (ITU) World Radiocommunication Conference and the Radiocommunication Assembly.

The ITAC will meet to begin preparation of advice for the U.S. government for the ITU World Radiocommunication Conference (WRC), which will be held in January 23-February 17, 2012 in Geneva, Switzerland. The Radiocommunication Assembly will be held in Geneva the preceding week, January 16-20, 2012.

The ITAC will meet from 10 am to 12 pm on Wednesday, April 21, 2011 at 1200 Wilson Boulevard, Arlington, VA 22209. This meeting is open to the public as seating capacity allows. The public will have an opportunity to provide comments at this meeting. Any requests for reasonable accommodation should be made at least 7 days before the meeting. All such requests will be considered, however, requests made after date might not be possible to fill. Those desiring further information may contact the Secretariat at jillsonad@state.gov mailto:jillsonad@state.gov or at 202 647-2592.

Dated: March 25, 2011.
Cecily C. Holiday,
International Communications & Information Policy, U.S. Department of State.

[FR Doc. 2011-7766 Filed 3-31-11; 8:45 am]

BILLING CODE 4710-07-P